DEPARTMENT OF COMMERCE

International Trade Administration

[A-570-106]

Wooden Cabinets and Vanities and Components Thereof From the People's Republic of China: Final Results of the Expedited First Sunset Review of the Antidumping Duty Order

AGENCY: Enforcement and Compliance, International Trade Administration, Department of Commerce.

SUMMARY: The U.S. Department of Commerce (Commerce) finds that revocation of the antidumping duty (AD) order on wooden cabinets and vanities and components thereof (wooden cabinets and vanities) from the People's Republic of China (China) would be likely to lead to continuation or recurrence of dumping, at the levels indicated in the “Final Results of Sunset Review” section of this notice.

DATES: Applicable July 3, 2025.

FOR FURTHER INFORMATION CONTACT: Jaye Goodrich, Trade Agreements Policy and Negotiations, Enforcement and Compliance, International Trade Administration, U.S. Department of Commerce, 1401 Constitution Avenue NW, Washington, DC 20230; telephone: 202-482-2196.

SUPPLEMENTARY INFORMATION:

Background

On April 21, 2020, Commerce published the Order in the Federal Register.¹ On March 3, 2025, Commerce published the notice of initiation of this first sunset review of the Order, pursuant to section 751(c) of the Tariff Act of 1930, as amended (the Act).²

¹ See Order.

² See Initiation of Five-Year (Sunset) Reviews, 90 FR 11039 (March 3, 2025).

On March 18, 2025, Commerce received timely and complete notices of intent to participate in the sunset review for domestic interested parties ³ within the deadline specified in the 19 CFR 351.218(d)(1)(i).⁴ The AKCA claimed interested party status within the meaning of section 771(9)(E) of the Act as a trade or business association a majority of whose members manufacture, produce, or wholesale a domestic like product in the United States.⁵ MasterBrand claimed the interested party status within the meaning of section 771(9)(C) of the Act as a manufacturer, producer, or wholesaler in the United States of a domestic like product.⁶ On March 20, 2025, Commerce notified the U.S. International Trade Commission (ITC) that it had received a notice of intent to participate from the domestic interested parties.⁷

³ The domestic interested parties are the American Kitchen Cabinet Alliance (AKCA) and MasterBrand Cabinets, LLC (MasterBrand).

⁴ See AKCA's Letter, “Notice of Intent to Participate in the First Five-Year Review of the Antidumping Duty Order on Wooden Cabinets and Vanities and Components Thereof from the People's Republic of China,” dated March 18, 2025 (AKCA's Notice of Intent to Participate); and MasterBrand's Letter “Wooden Cabinets and Vanities and Components Thereof from the People's Republic of China: Substantive Response to Notice of Initiation of Sunset Review,” dated March 18, 2025 (MasterBrand's Notice of Intent to Participate).

⁵ See AKCA's Notice of Intent to Participate at 2.

⁶ See MasterBrand's Notice of Intent to Participate at 2.

⁷ See Commerce's Letter, “Sunset Reviews Initiated on March 3, 2025,” dated March 3, 2025.

On April 2, 2025, pursuant to 19 CFR 351.218(d)(3)(i), domestic interested parties filed a timely and adequate substantive response.⁸ Commerce did not receive a substantive response from any respondent interested party. On April 22, 2025, Commerce notified the ITC that it did not receive substantive response from any respondent interested parties.⁹ As a result, pursuant to section 751(c)(3)(B) of the Act and 19 CFR 351.218(e)(1)(ii)(C)(2), Commerce conducted an expedited (120-day) sunset review of the Order.

⁸ See AKCA's Letter, “Wooden Cabinets and Vanities and Components Thereof from the People's Republic of China: Domestic Interested Party's Substantive Response to the Notice of Initiation,” dated April 2, 2025; and MasterBrand's Letter, “Wooden Cabinets and Vanities and Components Thereof from the People's Republic of China: Substantive Response to Notice of Initiation of Sunset Review,” dated April 2, 2025.

⁹ See Commerce's Letter, “Sunset Reviews Initiated on March 3, 2025,” dated March 3, 2025.

Scope of the Orders

The products covered by this Order are wooden cabinets and vanities and components thereof from China. For the full description of the scope of the Order, see the Issues and Decisions Memorandum.¹⁰

¹⁰ See Memorandum, “Issues and Decision Memorandum for the Final Results of the Expedited First Sunset Reviews of the Antidumping Duty Order on Wooden Cabinets and Vanities and Components Thereof from the People's Republic of China,” dated concurrently with, and hereby adopted by, this notice.

Analysis of Comments Received

A complete discussion of all issues raised in this sunset review, including the likelihood of continuation or recurrence of dumping in the event of revocation of the Order and the magnitude of the margins likely to prevail if the Order were to be revoked, is provided in the accompanying Issues and Decision Memorandum.¹¹ A list of the topics discussed in the Issues and Decision Memorandum is attached in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

¹¹ Id.

Final Results of Sunset Review

Pursuant to sections 751(c)(1), 752(c)(1) and (3) of the Act, Commerce determines that revocation of the Order would be likely to lead to continuation or recurrence of dumping, and that the magnitude of the dumping margins likely to prevail would be weighted-average dumping margins up to 262.18 percent.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(c), and 777(i)(1) of the Act, and 19 CFR 351.218 and 19 CFR 351.221(c)(5)(ii).

Dated: June 27, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2025-12457 Filed 7-2-25; 8:45 am]

BILLING CODE 3510-DS-P